DEPARTMENT OF LABOR

Employment and Training Administration

[TA-W-63,723]

General Motors Corporation, GMNA Powertrain—Massena, Including On-Site Leased Workers From Aerotek, Inc., Knights Facilities Management, IS One, APC Worforce, Securitas Security Services, The Bar Tech Group, Maxsys USA, Inc., Adroit Software & Consulting, Inc., ACRO Service Corp., Kelly Services, Inc., Interim, and EDS; Messena, NY; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification of Eligibility to Apply for Worker Adjustment Assistance and Alternative Trade Adjustment Assistance on September 3, 2008, applicable to workers of General Motors Corporation, GMNA Powertrain—Massena, Massena, New York. The Department's notice was published in the Federal Register on September 18, 2008 (73 FR 54174). On November 18, 2008, the Department issued an amended certification to include on-site leased workers. The Department's Notice of amended certification was published in the Federal Register on December 1, 2008 (73 FR 72850).

At the request of the State agency, the Department reviewed the certification for workers of the subject firm. The workers are engaged in the production of aluminum castings for engines.

New information provided by the State and the company official shows that workers leased from the following agencies were employed on-site at the Massena, New York location of General Motors Corporation, GMNA Powertrain—Massena: Kelly Services, Inc., Interim, and EDS. The Department has determined that these workers were sufficiently under the control of General Motors Corporation, GMNA Powertrain—Massena to be considered leased workers.

Based on these findings, the Department is amending this certification to include workers leased from the above mentioned firms working on-site at the Massena, New York location of the subject firm.

The intent of the Department's certification is to include all workers employed at General Motors Corporation, GMNA Powertrain—Massena, Massena, New York who qualify as secondarily affected by increased imports of aluminum castings for engines.

The amended notice applicable to TA-W-63,723 is hereby issued as follows:

“All workers of General Motors Corporation, GMNA Powertrain—Massena, including on-site leased workers from Aerotek, Inc., Knights Facilities Management, IS One, APC Workforce, Securitas Security Services, The Bar Tech Group, Maxsys USA, Inc., Adroit Software & Consulting, Inc., Acro Service Corp., Kelly Services, Inc., Interim, and EDS, Massena, New York, who became totally or partially separated from employment on or after July 16, 2007, through September 3, 2010, are eligible to apply for adjustment assistance under Section 223 of the Trade Act of 1974, and are also eligible to apply for alternative trade adjustment assistance under Section 246 of the Trade Act of 1974.”

Signed at Washington, DC, this 10th day of March 2009.
Richard Church,
Certifying Officer, Division of Trade Adjustment Assistance.

[FR Doc. E9-6235 Filed 3-20-09; 8:45 am]

BILLING CODE 4510-FN-P